DEPARTMENT OF HEALTH AND HUMAN SERVICES

Centers for Disease Control and Prevention

[30Day-05-04JN]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5974 or send an email to omb@cdc.gov. Send written comments to CDC Desk Officer, Office of Management and Budget, Washington, DC or by fax to (202) 395-6974. Written comments should be received within 30 days of this notice.

Proposed Project

Internet Survey on Household Drinking Water—New “ National Center for Environmental Health (NCEH), Centers for Disease Control and Prevention (CDC).

Background and Brief Description

Drinking water in the United States comes from many different sources. A recent survey of the public's perceptions of water quality reports that 86% of adults have some concern about drinking water quality and more than half worry about possible contaminants in water (Water Quality Association, 2001 National Consumer Water Quality Survey). Public concern about drinking water quality has given rise to the increased use of bottled water, vended water, and water-treatment devices. The same survey reported that in the past six years, use of home water-treatment systems rose 60%. Bottled water consumption has risen from 10.5 gallons per capita in 1993 to 22.6 gallons per capita in 2003, making bottled water the second largest commercial beverage category, accounting for $8.3 billion in sales for 2003 (Beverage Marketing Corporation, News Release, April 8, 2004). Many consumers believe that bottled water is ‘healthier’ than tap water. However the Food and Drug Administration (FDA), the agency responsible for regulating the quality of bottled water, reports that the relative safety of bottled vs. tap water remains under debate (FDA Consumer Magazine, July-August 2002).

The proposed internet survey is designed to obtain information about why the public is using water-treatment devices, bottled water, and vended water as alternatives to tap water. The survey asks both opinion and knowledge questions about the safety of each type of water and requests information on the frequency and costs of using bottled water, vended water, and water-treatment devices. The survey also contains knowledge and opinion questions about general water topics, including perceptions of the chemical and microbial quality of water and any health incidents participants have experienced associated with drinking various types of water. The survey will be posted on the CDC Web site and recruitment will be sought through an announcement on the Web site inviting visitors to complete the survey. We anticipate that survey participants will come from all regions of the United States. No personal identifiers are requested as part of the survey. There are no costs to the respondents other than their time. The total annual burden hours are 333.

Estimate of Annualized Burden Hours
Respondents | Number of of respondents | Number of responses per respondent | Average burden per response
CDC Internet Survey Respondents | 1,000 | 1 | 20/60

Dated: July 20, 2005.
Betsey Dunaway,
Acting Reports Clearance Officer, Centers for Disease Control and Prevention.

[FR Doc. 05-14682 Filed 7-25-05; 8:45 am]

BILLING CODE 4163-18-P